DEPARTMENT OF COMMERCE

International Trade Administration

Initiation of Antidumping and Countervailing Duty Administrative Reviews and Requests for Revocation in Part

AGENCY: Import Administration, International Trade Administration, Department of Commerce.

SUMMARY: The Department of Commerce (the Department) has received requests to conduct administrative reviews of various antidumping and countervailing duty orders and findings with August anniversary dates. In accordance with the Department's regulations, we are initiating those administrative reviews. The Department also received requests to revoke two antidumping duty orders in part.

DATES: Effective Date: September 30, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b) (2007), for administrative reviews of various antidumping and countervailing duty orders and findings with August anniversary dates. The Department also received timely requests to revoke in part the antidumping duty order on Frozen Fish Fillets from the Socialist Republic of Vietnam and Certain Corrosion-Resistant Carbon Steel Flat Products from the Republic of Korea with respect to one exporter.

Notice of No Sales

Under 19 CFR 351.213(d)(3), the Department may rescind a review where there are no exports, sales, or entries of subject merchandise during the respective period of review listed below. If a producer or exporter named in this notice of initiation had no exports, sales, or entries during the period of review, it should notify the Department within 30 days of publication of this notice in the Federal Register. The Department will consider rescinding the review only if the producer or exporter, as appropriate, submits a properly filed and timely statement certifying that it had no exports, sales, or entries of subject merchandise during the period of review. All submissions must be made in accordance with 19 CFR 351.303 and are subject to verification in accordance with section 782(i) of the Act. Six copies of the submission should be submitted to the Assistant Secretary for Import Administration, International Trade Administration, Room 1870, U.S. Department of Commerce, 14th Street & Constitution Avenue, NW., Washington, DC 20230. Further, in accordance with section 351.303(f)(1)(i) of the regulations, a copy of each request must be served on every party on the Department's service list.

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (Sparklers), as amplified by Final Determination of Sales at Less Than Fair Value: Silicon Carbide from the People's Republic of China, 59 FR 22585 (May 2,1994) (Silicon Carbide). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

Initiation of Reviews

In accordance with sections 19 CFR 351.221(c)(1)(i), we are initiating administrative reviews of the following antidumping and countervailing duty orders and findings. We intend to issue the final results of these reviews not later than August 31, 2009.

| Period to be reviewed
Antidumping Duty Proceedings
Italy: Granular Polytetrafluoroethylene Resin, A-475-703 | 8/1/07-7/31/08
Solvay Solexis S.p.A
Malaysia: Polyethylene Retail Carrier Bags, A-557-813 | 8/1/07-7/31/08
Europlastics Malaysia Sdn. Bhd. and the Eplastics Procurement Center Sdn. Bhd
Republic of Korea: Corrosion-Resistant Carbon Steel Flat Products, A-580-816 | 8/1/07-7/31/08
Dongbu Steel Co., Ltd
Dongkuk Industries Co., Ltd
Haewon MSC Co., Ltd
Hyundai HYSCO
LG Chem, Ltd
Pohang Iron and Steel Co., Ltd./Pohang Coated Steel Co., Ltd
Union Steel Manufacturing Co., Ltd
Socialist Republic of Vietnam: Frozen Fish Fillets,¹A-552-801 | 8/1/07-7/31/08
An Giang Fisheries Import and Export Joint Stock Company (aka Agifish or AnGiang Fisheries Import and Export)
An Xuyen Co., Ltd
Anvifish Co., Ltd
Asia Commerce Fisheries Joint Stock Company (aka as Acomfish JSC)
Ben Tre Forestry Aquaproduct Import-Export Company (aka as FAQUIMEX)
Binh An Seafood Joint Stock Co
Da Nang Seaproducts Import-Export Corporation (aka Da Nang or Seaprodex Danang)
East Sea Seafoods Joint Venture Co., Ltd
Hiep Thanh Seafood Joint Stock Co
Hung Vuong Corporation
Nam Viet Company Limited (aka NAVICO)
Phuong Nam Co., Ltd
QVD Food Company, Ltd
QVD Dong Thap Food Co., Ltd
Southern Fishery Industries Company, Ltd. (aka South Vina)
Thien Ma Seafood Co., Ltd
Thuan Hung Co., Ltd. (aka THUFICO)
Vinh Hoan Corporation
Vinh Hoan Company, Ltd
Vinh Quang Fisheries Corporation
Thailand: Polyethylene Retail Carrier Bags, A-549-821 | 8/1/07-7/31/08
C.P. Packaging Co., Ltd
C.P. Poly-Industry Co. Ltd
Master Packaging Co., Ltd
Naraipak Co., Ltd
Nari Packaging (Thailand) Ltd
Poly Plast (Thailand) Co., Ltd
Thai Plastic Bags Industries Co., Ltd
The People's Republic of China: Floor-Standing Metal-Top Ironing Tables,² A-570-888 | 8/1/07-7/31/08
Foshan Shunde Yongjian Housewares & Hardware Co., Ltd
Since Hardware (Guangzhou) Co., Ltd
The People's Republic of China: Polyethylene Retail Carrier Bags,³ A-570-886 | 8/1/07-7/31/08
Rally Plastics Co., Ltd
Countervailing Duty Proceedings
Republic of Korea: Corrosion-Resistant Carbon Steel Flat Products, C-580-818 | 1/1/07-12/31/07
Dongbu Steel Co., Ltd
Hyundai HYSCO
Pohang Iron & Steel Co., Ltd
Republic of Korea: Dynamic Random Access Memory Semiconductors, C-580-851 | 1/1/07-12/31/07
Hynix Semiconductor, Inc
Suspension Agreements
None

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed Cir. 2002), as appropriate, whether antidumping duties have been absorbed by an exporter or producer subject to the review if the subject merchandise is sold in the United States through an importer that is affiliated with such exporter or producer. The request must include the name(s) of the exporter or producer for which the inquiry is requested.

¹ If one of the above named companies does not qualify for a separate rate, all other exporters of frozen fish fillets from the Socialist Republic of Vietnam who have not qualified for a separate rate are deemed to be covered by this review as part of the single Vietnam entity of which the named exporters are a part.

² If one of the above named companies does not qualify for a separate rate, all other exporters of floor-standing metal-top ironing tables from the People's Republic of China who have not qualified for a separate rate are deemed to be covered by this review as part of the single PRC entity of which the named exporters are a part.

³ If one of the above named companies does not qualify for a separate rate, all other exporters of polyethylene retail carrier bags from the People's Republic of China who have not qualified for a separate rate are deemed to be covered by this review as part of the single PRC entity of which the named exporters are a part.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 24, 2008.
Stephen J. Claeys,
Deputy Assistant Secretary for Import Administration.

[FR Doc. E8-23088 Filed 9-29-08; 8:45 am]

BILLING CODE 3510-DS-P